DEPARTMENT OF DEFENSE

Department of the Army

Privacy Act of 1974; System of Records

AGENCY: Department of the Army, DOD.

ACTION: Notice to Alter a System of Records.

SUMMARY: The Department of the Army is altering a system of records notice in its existing inventory of record systems subject to the Privacy Act of 1974, (5 U.S.C. 552a), as amended.

The routine uses being added permit the disclosure of records to THE ARMY LAWYER, a monthly publication for Army lawyers, and to interested complainants to inform them of the disposition of professional misconduct allegations.

DATES: This proposed action will be effective without further notice on February 22, 2000, unless comments are received which result in a contrary determination.

ADDRESSES: Privacy Act Officer, Records Management Division, U.S. Total Army Personnel Command, ATTN: TAPC-PDR-P, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on January 5, 2000 to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 3, 2000.
L.M. Bynum,
Alternate OSD Federal Register Liaison Officer, Department of Defense.

A0027-1k DAJA

SYSTEM NAME:

Judge Advocate General Professional Conduct Files (January 12, 1993, 58 FR 3936).

CHANGES:

* * * * *

SYSTEM LOCATION:

Delete entry and replace with ‘Primary location: Department of the Army Standards of Conduct Office, ATTN: DAJA-SC 10th Floor, Rossyln Plaza North, 1777 North Kent Street, Rosslyn, VA 22209-2194.

Secondary locations: Offices of the Judge Advocate General at major Army commands, field operating agencies, installations and activities Army-wide. Official mailing addresses are published as an appendix to the Army's compilation of systems of records notices.’

CATEGORIES OF INDIVIDUALS COVERED BY THE SYSTEM:

Delete entry and replace with ‘Judge Advocates, civilian attorneys of the Judge Advocate Legal Service, and civilian attorneys subject to the disciplinary authority of the Judge Advocate General who have been the subject of a complaint related to their impairment, professional conduct or mismanagement or when a court has convicted, diverted, or sanctioned the attorney, or has found contempt or an ethics violation, or the attorney has been disciplined elsewhere.’

CATEGORIES OF RECORDS IN THE SYSTEM:

Delete entry and replace with ‘Records include, but are not limited to, complaints with substantiating documents, tasking memoranda, preliminary screening inquiry (PSI) reports and mismanagement inquiry reports (containing sensitive personal information, witness statements, and inquiry officer's findings and recommendations), supervisory Judge Advocate recommendations and actions, staff memoranda to Judge Advocate General's Corps leadership, Professional Responsibility Committee opinions, memoranda related to disciplinary actions, responses from subjects, and correspondence with Governmental agencies and professional licensing authorities.’

PURPOSE(S):

Delete entry and replace with ‘To assist the Judge Advocate General in the evaluation, management, administration, and regulation of the delivery of legal services by offices and personnel under his jurisdiction; and to record the disposition of ethics and mismanagement complaints, and document corrective action taken.’

ROUTINE USES OF RECORDS MAINTAINED IN THE SYSTEM, INCLUDING CATEGORIES OF USERS AND THE PURPOSES OF SUCH USES:

Delete second paragraph and replace with ‘Information concerning substantiated misconduct may be released to professional licensing authorities (e.g. state and federal disciplinary agencies);

To current and potential governmental employers during authorized background checks to assist their efforts to protect the public by maintaining the integrity of the legal profession;

To ‘The Army Lawyer’, a monthly publication for Army lawyers, for publication when directed by the Judge Advocate General or the Assistant Judge Advocate General; and

To directly interested complainants to inform them of the disposition of professional misconduct allegations.’

* * * * *

A0027-1k DAJA

SYSTEM NAME:

Judge Advocate General Professional Conduct Files.

SYSTEM LOCATION:

Primary location: Department of the Army Standards of Conduct Office, ATTN: DAJA-SC 10th Floor, Rosslyn Plaza North, 1777 North Kent Street, Rosslyn, VA 22209-2194.

Secondary locations: Offices of the Judge Advocate General at major Army commands, field operating agencies, installations and activities Army-wide. Official mailing addresses are published as an appendix to the Army's compilation of systems of records notices.

CATEGORIES OF INDIVIDUALS COVERED BY THE SYSTEM:

Judge Advocates, civilian attorneys of the Judge Advocate Legal Service, and civilian attorneys subject to the disciplinary authority of the Judge Advocate General who have been the subject of a complaint related to their impairment, professional conduct or mismanagement or when a court has convicted, diverted, or sanctioned the attorney, or has found contempt or an ethics violation, or the attorney has been disciplined elsewhere.

CATEGORIES OF RECORDS IN THE SYSTEM:

Records include, but are not limited to, complaints with substantiating documents, tasking memoranda, preliminary screening inquiry (PSI) reports and mismanagement inquiry reports (containing sensitive personal information, witness statements, and inquiry officer's findings and recommendations), supervisory Judge Advocate recommendations and actions, staff memoranda to Judge Advocate General's Corps leadership, Professional Responsibility Committee opinions, memoranda related to disciplinary actions, responses from subjects and correspondence with Governmental agencies and professional licensing authorities.

AUTHORITY FOR MAINTENANCE OF THE SYSTEM:

10 U.S.C. 3013, Secretary of the Army; 10 U.S.C. 3037(c); RCM 109, Manual for Courts-Martial, 1995; Army Regulation 690-300, Employment (Civilian Personnel); Army Regulation 27-1, Judge Advocate Legal Service.

PURPOSE(S):

To assist the Judge Advocate General in the evaluation, management, administration, and regulation of the delivery of legal services by offices and personnel under his jurisdiction; and to record the disposition of ethics complains and to document ethics violations and corrective action taken.

ROUTINE USES OF RECORDS MAINTAINED IN THE SYSTEM, INCLUDING CATEGORIES OF USERS AND THE PURPOSES OF SUCH USES:

In addition to those disclosures generally permitted under 5 U.S.C. 552a(b) of the Privacy Act, these records of information contained therein may specifically be disclosed outside the DoD as a routine use pursuant to 5 U.S.C., 522a(b)(3) as follows:

Information concerning substantiated misconduct may be released to professional licensing authorities (e.g., state and federal disciplinary agencies);

To current and potential governmental employers during authorized background checks to assist their efforts to protect the public by maintaining the integrity of the legal profession;

To ‘The Army Lawyer’, a monthly publication for Army lawyers, for publication when directed by the Judge Advocate General or the Assistant Judge Advocate General; and

To directly interested complainants to inform them of the disposition of professional misconduct allegations.

The ‘Blanket Routine Uses’ set forth at the beginning of the Army's compilation of systems of records notices also apply to this system.

POLICIES AND PRACTICES FOR STORING, RETRIEVING, ACCESSING, RETAINING, AND DISPOSING OF RECORDS:

STORAGE:

Papers records in file folders and on computers.

RETRIEVABILITY:

By subject's name.

SAFEGUARDS:

Records are maintained in locked offices and/or in locked file cabinets in secured building or on military installations protected by police patrols. All information is maintained in secured areas accessible only to designated individuals having official need therefor in the performance of official duties. Computer stored information is password protected.

RETENTION AND DISPOSAL:

Disposition pending (until NARA disposition is approved, treat as permanent).

SYSTEM MANAGER(S) AND ADDRESS:

Chief, Department of the Army Standards of Conduct Office, ATTN: DAJA-SC, 10th Floor, Rosslyn Plaza North, 1777 North Kent Street, Rosslyn, VA 22209-2194.

NOTIFICATION PROCEDURE:

Individuals seeking to determine whether information about themselves is contained in this system of records should address written inquires to the Department of the Army Standards of Conduct Office, ATTN: DAJA-SC, 10th Floor, Rosslyn Plaza North, 1777 North Kent Street, Rosslyn, VA 22209-2194.

RECORD ACCESS PROCEDURES:

Individuals seeking access to records about themselves should address written inquiries to the Department of the Army Standards of Conduct Office, ATTN: DAJA-SC, 10th Floor, Rosslyn Plaza North, 1777 North Kent Street, Rosslyn, VA 22209-2194.

CONTESTING RECORD PROCEDURES:

The Army's rules for accessing records, and for contesting contents and appealing initial agency determinations are contained in Army Regulation 340-21; 32 CFR part 505; or may be obtained from the system manager.

RECORD SOURCE CATEGORIES:

Information is received from individuals and from federal, state, and local authorities (e.g., preliminary screening report, other Army records, state bar records, law enforcement records, educational institution records, etc.).

EXEMPTIONS CLAIMED FOR THE SYSTEM:

None.

[FR Doc. 00-1311 Filed 1-19-00; 8:45 am]

BILLING CODE 5001-10-M